COMMITTEE FOR PURCHASE FROM PEOPLE WHO ARE BLIND OR SEVERELY DISABLED

Procurement List; Proposed Additions

AGENCY: Committee for Purchase From People Who Are Blind or Severely Disabled.

ACTION: Proposed Additions to Procurement List.

SUMMARY: The Committee has received proposals to add to the Procurement List commodities and services to be furnished by nonprofit agencies employing persons who are blind or have other severe disabilities.

Comments Must Be Received on or Before: June 26, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

PVA Sponge Mop Refill

M.R. 1037

NPA: The Lighthouse for the Blind, Inc., Seattle, Washington

Cover, Mattress

7210-00-140-4235

NPA: Winston-Salem Industries for the Blind, Winston-Salem, North Carolina

Nonfat Dry Milk

8910-00-NSH-0001

NPA: Advocacy and Resources Corp. (ARC), Cookeville, Tennessee, Transylvania Vocational Services, Inc., Brevard, North Carolina

Services

Grounds Maintenance

U.S. Army Reserve Centers at the following locations:

Lydia Street Ext., Waterbury, Connecticut

Phelps Road, East Windsor, Connecticut

AMSA 69

26 Seamans Lane, Milford, Connecticut

499 Mile Lane, Middletown, Connecticut

AMSA 72

536 Spring Street, Windsor Locks, Connecticut

200 Wintergreet Avenue, New Haven, Connecticut

180 High Street, Fairfield, Connecticut

South Quaker Lane, West Hartford, Connecticut

NPA: CW Resources, Inc., New Britain, Connecticut

Janitorial/Custodial

Bureau of Land Management, Montana State Office Fire Office Complex for the following locations in Billings, Montana:

The Fire Operations and Air Tanker Base Building, 1299 Rimtop Drive

Billings Zone Fire Cache Building, Airport Industrial Park IP-7, 551 Northview Drive

NPA: Community Options Resource Enterprises, Inc., Billings, Montana

Janitorial/Custodial

Bureau of Land Management, Carlsbad Field Office, 620 East Green Street, Carlsbad, New Mexico

Leon A. Wilson, Jr.
Executive Director.

[FR Doc. 00-13317 Filed 5-25-00; 8:45 am]

BILLING CODE 6353-01-P